DEPARTMENT OF TRANSPORTATION

Pipeline and Hazardous Materials Safety Administration

[Docket No. PHMSA-2008-0333]

Pipeline Safety: Requests for Special Permit

AGENCY: Pipeline and Hazardous Materials Safety Administration (PHMSA); DOT.

ACTION: Notice.

SUMMARY: The Federal pipeline safety laws allow a pipeline operator to request PHMSA to waive compliance with any part of the Federal pipeline safety regulations by granting a special permit to the operator. PHMSA is publishing this notice to provide a list of special permit requests we have received from pipeline operators seeking relief from compliance with certain pipeline safety regulations. This notice seeks public comment on these requests, including comments on any environmental impacts. At the conclusion of the 30 days comment period, PHMSA will evaluate each request individually to determine whether to grant or deny a special permit.

DATES: Submit any comments regarding any of these special permit requests by February 23, 2009.

ADDRESSES: Comments should reference the docket number for the special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE, Washington, DC 20590.

• Hand Delivery: DOT Docket Management System: U.S. Department of Transportation, Docket Operations, M-30, West Building Ground Floor, Room W12-140, 1200 New Jersey Avenue, SE., Washington, DC 20590, between 9 a.m. and 5 p.m., Monday through Friday, except Federal holidays.

Instructions: You should identify the docket number for the special permit request you are commenting on at the beginning of your comments. If you submit your comments by mail, submit two copies. To receive confirmation that PHMSA received your comments, include a self-addressed stamped postcard. Internet users may submit comments at http://www.Regulations.gov.

Note: Comments are posted without changes or edits to http://www.Regulations.gov, including any personal information provided. There is a privacy statement published on http://www.Regulations.gov.

FOR FURTHER INFORMATION CONTACT:

General: Kay McIver by telephone at (202) 366-0113; or, e-mail at kay.mciver@dot.gov.

Technical: Steve Nanney by telephone at (713) 272-2855, or, e-mail at steve.nanney@dot.gov.

SUPPLEMENTARY INFORMATION: PHMSA has filed in the Federal Docket Management System (FDMS) requests for special permits we have received from pipeline operators seeking relief from compliance with certain pipeline safety regulations. Each request has been assigned a separate docket number in the FDMS. We invite interested persons to participate by reviewing these special permit requests and by submitting written comments, data or other views. Please include any comments on environmental impacts granting the special permit may have.

Before acting on any special permit request, PHMSA will evaluate all comments received on or before the comment closing date. We will consider comments received after this date if it is possible to do so without incurring additional expense or delay. We may grant a special permit or deny a request based on the comments we receive.

PHMSA has received the following special permit requests:

—
Docket No. | Requester | Regulation(s) affected | Nature of special permit
PHMSA-2008-0188 | Texas Eastern Transmission, L.P. (“TETLP”) (Spectra Energy) | 49 CFR 192.611 | To authorize Texas Eastern Transmission, L.P. (TETLP) to operate two pipeline segments on its 24-inch Line 12 system downstream of its Grantville Compressor station in Lebanon County, Pennsylvania to Bernville Compressor station in Pennsylvania without reducing operating pressure as a result of changes from Class 1 to Class 2 locations. Grantville Line 12 would continue to operate at its maximum allowable operating pressure (“MAOP”) of 1,050 psig without replacing the pipe in the new Class 2 area.
PHMSA-2008-0213 | Empire Pipeline | 49 CFR 192.611 | To authorize the Empire Pipeline to operate 5 segments on its 24-inch natural gas pipeline without reducing the operating pressure as a result of changes from Class 1 to Class 3 locations. The special permit is sought with respect to these five segments:
|  |  | Segment 1: (MP 57.33 to MP 57.49) in the town of Byron, Genesee County, NY, west of NY Route 237.
|  |  | Segment 2: (MP 76.09 to MP 76.42) located in the town of Henrietta, in Monroe County, NY and 375 feet west of East River Road.
|  |  | Segment 3: (MP 84.88 to MP 85.19) located in the town of Pittsford, Monroe County, NY, beginning approximately 200 feet west of West Bloomfield Road and continuing approximately 3/10th of a mile to the west.
|  |  | Segment 4: (MP 23.30 to MP 23.81) located in the town of Pendleton, Niagara County, NY, west of Transit Road (Route 78).
|  |  | Segment 5: (MP 25.19 to MP 25.54) located in the town of Lockport, Niagara County, New York, east of Old Beattie Road.
PHMSA-2008-0257 | Texas Eastern Transmission | 49 CFR 192.112(a)(1), 49 CFR 192.112(c)(1), 49 CFR 192.112(c)(2)(i), 49 CFR 192.112(c)(2)(ii), 49 CFR 192.112(c)(2)(iii), 49 CFR 192.112(d)(2)(i), 49 CFR 192.112(f)(1), 49 CFR 192.620(d)(5)(iii) | To authorize an increase in MAOP on the Texas Eastern Transmission, L.P. (“TETLP”) 36-inch Lines 1 and 2 from the Uniontown, Pennsylvania compressor station to a mainline regulating station, approximately 7 miles west of its Lambertville, New Jersey compressor station. The pipeline system operating pressure would increase to 80% of specified minimum yield strength (SMYS) in Class 1 locations, 67% SMYS in Class 2 locations, and 56% SMYS in Class 3 locations. There are no Class 4 areas on the system and TETLP does not propose to include future Class 4 areas under this special permit. The existing pipeline system pressure is 1000 psig and will be uprated to 1112 psig. The MAOP uprate is part of two proposed pipeline capacity expansion projects, called the TEMAS and TIME III Projects.
PHMSA-2008-0285 | TransCanada Keystone Pipeline LP 36-inch XL Pipeline | 49 CFR 195.106 | To authorize TransCanada to design, construct and operate the proposed 36-inch TransCanada Keystone XL Pipeline Project, using a design factor and operating stress level of 80% SMYS.
PHMSA-2008-0327 | Trunkline LNG (TLNG) | 49 CFR 190.341 | To authorize Trunkline LNG (TLNG) to operate two potassium formate heat-exchange vaporizers at the TLNG facility near Lake Charles, Louisiana. These vaporizers are part of a nearly completed expansion project at the facility and are referred to as the IEP (Infrastructure Expansion Project). This request is to adjust the allowed distance between the second and third vaporizers.
PHMSA-2008-0330 | Columbia Gas Transmission (CGT) | 49 CFR 192.611 | To authorize Columbia Gas Transmission (CGT) to operate 2 segments on its 30-inch Mainline 200, and its 36-inch Mainline 300 pipeline systems located in Mt. Juliet, Wilson County, Tennessee, without reducing operating pressure as a result of changes from original Class 1 or Class 2 to Class 3 locations, and without replacing the pipe in Class 3 areas.
PHMSA-2008-0331 | Columbia Gas Transmission (CGT) | 49 CFR 192.611 | To authorize Columbia Gas Transmission (CGT) to operate six segments of 30-inch SM-80 and 30-inch SM-80-Loop pipelines in Cabell and Putnam Counties, WV, at the current 935 psig operating pressure without replacing pipe in the Class 3 locations. The SM-80 and SM-80-Loop pipelines are parallel to one another across their full length starting at Boyd County, Kentucky and ending at the Lanham compressor station at Rocky Fork, West Virginia.
PHMSA-2008-0332 | Columbia Gas Transmission (CGT) | 49 CFR 192.611 | To authorize Columbia Gas Transmission (CGT) to operate 5 segments of 20-inch Mainline 1804 pipeline system in Adams and York Counties, PA without reducing operating pressure as a result of changes from Class 1 to Class 3 locations.
PHMSA-2008-0345 | Columbia Gas Transmission (CGT) | 49 CFR 192.611 | To authorize Columbia Gas Transmission (CGT) to operate four segments of its 24-inch Mainline R-701 pipeline in Southern Ohio without reducing operating pressure as a result of changes from Class 1 to Class 3 locations. Line R-701 runs south to north starting at Burlington, Ohio and ending at McArthur, Ohio.

Authority: 49 U.S.C. 60118(c)(1) and 49 CFR 1.53.

Issued in Washington, DC on January 15, 2009.
John Gale,
Director, Office of Regulations.

[FR Doc. E9-1425 Filed 1-22-09; 8:45 am]

BILLING CODE 4910-60-P